DEPARTMENT OF LABOR

Employment and Training Administration

[TA-W-51,672]

GE Industrial Systems, a Wholly-Owned Subsidiary of General Electric, Inc., Shreveport, Louisiana and Conover, North Carolina; Notice of Termination of Investigation

Pursuant to section 221 of the Trade Act of 1974, as amended, an investigation was initiated on May 2, 2003, in response to a petition filed by a company official on behalf of workers at GE Industrial Systems, a wholly-owned subsidiary of General Electric, Inc., Shreveport, Louisiana and Conover, North Carolina.

The petitioner has requested that the petition be withdrawn. Consequently, further investigation would serve no purpose, and the investigation has been terminated.

Signed in Washington, DC, this 8th day of May, 2003.
Linda G. Poole,
Certifying Officer, Division of Trade Adjustment Assistance.

[FR Doc. 03-12565 Filed 5-19-03; 8:45 am]

BILLING CODE 4510-30-P